DEPARTMENT OF ENERGY

Federal Energy Regulatory Commission

Combined Notice of Filings #2

Take notice that the Commission received the following electric rate filings:

Docket Numbers: ER10-1355-001.

Applicants: Southern California Edison Company.

Description: Southern California Edison Company submits triennial market power analysis.

Filed Date: 12/17/12.

Accession Number: 20121217-5116.

Comments Due: 5 p.m. ET 2/15/13.

Docket Numbers: ER12-550-001.

Applicants: Southwest Power Pool, Inc.

Description: Southwest Power Pool, Inc. submits tariff filing per 35: Order No. 719 Compliance Filing to be effective 12/17/2012.

Filed Date: 12/17/12.

Accession Number: 20121217-5090.

Comments Due: 5 p.m. ET 1/7/13.

Docket Numbers: ER13-563-000.

Applicants: NorthWestern Corporation.

Description: NorthWestern Corporation submits tariff filing per 35.13(a)(2)(iii: Second Revised Rate Schedule FERC No. 27—Interconnection Agreement (Amps Line) to be effective 12/18/2012.

Filed Date: 12/17/12.

Accession Number: 20121217-5087.

Comments Due: 5 p.m. ET 1/7/13.

Docket Numbers: ER13-564-000.

Applicants: Florida Power Corporation.

Description: Florida Power Corporation submits Notice of Cancellation of Rate Schedule No. 178 with the City of Tallahassee, Florida.

Filed Date: 12/17/12.

Accession Number: 20121217-5115.

Comments Due: 5 p.m. ET 1/7/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 17, 2012.
Nathaniel J. Davis, Sr.,
Deputy Secretary.

[FR Doc. 2012-30920 Filed 12-21-12; 8:45 am]

BILLING CODE 6717-01-P